DEPARTMENT OF ENERGY

Federal Energy Regulatory Commission

[Docket No. RP05-163-002]

Paiute Pipeline Company; Notice of Motion To Place Suspended Rates and Tariff Sheets Into Effect

August 10, 2005.

Take notice t hat on July 29, 2005, Paiute Pipeline Company (Paiute) filed a motion pursuant to section 4(e) of the Natural Gas Act and section 154.206(a) of the Commission's regulations to make effective on August 1, 2005 the rates and the tariff sheets that were previously accepted and suspended, subject to refund and hearing, in connection with Paiute's application for general rate relief in Docket No. RP05-163-000. As part of its motion, Paiute has tendered for acceptance Fourteenth Revised Sheet No. 10 of Second Revised Volume No. 1-A of its FERC Gas Tariff, to be effective August 1, 2005.

Paiute indicates that in order to comply with the requirements of section 4(e) of the Natural Gas Act and sections 154.206(a) and 154.303(c)(2) of the Commission's regulations, as well as the Commission's February 28, 2005 suspension order in this proceeding, Paiute is submitting its motion for filing (1) to revise the rates proposed in its application in this proceeding to reflect the exclusion of costs associated with facilities which will not be placed in service as of July 31, 2005; and (2) to move to place the revised rates and other previously accepted and suspended tariff sheets into effect.

Paiute states that it has served a copy of this filing upon each person designated on the official service list compiled by the Secretary in this proceeding, and upon all affected customers and interested state regulatory commissions.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time on August 17, 2005.

Linda Mitry,
Deputy Secretary.

[FR Doc. E5-4441 Filed 8-15-05; 8:45 am]

BILLING CODE 6717-01-P